DEPARTMENT OF THE INTERIOR

National Park Service

[NPS-WASO-NAGPRA-NPS0035956; PPWOCRADN0-PCU00RP14.R50000]

Notice of Intent To Repatriate Cultural Items: University of California, Davis, Davis, CA

AGENCY: National Park Service, Interior.

ACTION: Notice.

SUMMARY: In accordance with the Native American Graves Protection and Repatriation Act (NAGPRA), the University of California, Davis (UC Davis) intends to repatriate certain cultural items that meet the definition of objects of cultural patrimony and that have a cultural affiliation with the Indian Tribes or Native Hawaiian organizations in this notice. The cultural items were removed from Placer and Sutter Counties, CA.

DATES: Repatriation of the cultural items in this notice may occur on or after July 3, 2023.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis. The National Park Service is not responsible for the determinations in this notice. Additional information on the determinations in this notice, including the results of consultation, can be found in the summary or related records held by UC Davis.

Description

The nine cultural items were removed from the Sugarpine area in Placer County, CA (UC Davis Accession 87 and UCDA) and Bear River and Robbins areas in Sutter County, CA (UCDA).

Between 1966 and 1976, cultural items were removed by UC Davis Department of Anthropology from various sites in the Sugarpine Reservoir area as a part of the Sugarpine Reservoir Archaeological Survey Project, which was conducted for the U.S. Bureau of Reclamation (Reclamation). Only in 2021 and 2022 did Reclamation determine that these items are not under their control. The object of cultural patrimony consists of one lot (approximately 178 items) of clay, stone, and historic objects.

At an unknown date, one cultural item was removed from the Sugar Pine area in Placer County, CA (UCDA). The circumstances surrounding the collection of the items are unknown. The one object of cultural patrimony is a metate.

At an unknown date, six cultural items were removed from the Bear River area in Sutter County, CA (UCDA). The circumstances surrounding the collection of the items are unknown. The six objects of cultural patrimony are one quartzite biface, one scraper, one hammerstone, two bifaces, and one whetstone.

In 1999, one cultural item was removed from the Robbins area in Sutter County, CA (UCDA) by UC Davis Department of Anthropology Professor Robert Bettinger and placed in the Department of Anthropology Teaching Collections. The one object of cultural patrimony is a hammerstone.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, historical, kinship, linguistic, oral traditional, and other relevant information or expert opinion.

Determinations

Pursuant to NAGPRA and its implementing regulations, and after consultation with the appropriate Indian Tribes and Native Hawaiian organizations, UC Davis has determined that:

• The nine cultural items described above have ongoing historical, traditional, or cultural importance central to the Native American group or culture itself, rather than property owned by an individual.

• There is a relationship of shared group identity that can be reasonably traced between the cultural items and the United Auburn Indian Community of the Auburn Rancheria of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 3, 2023. If competing requests for repatriation are received, UC Davis must determine the most appropriate requestor prior to repatriation. Requests for joint repatriation of the cultural items are considered a single request and not competing requests. UC Davis is responsible for sending a copy of this notice to the Indian Tribe identified in this notice.

Authority: Native American Graves Protection and Repatriation Act, 25 U.S.C. 3003, and the implementing regulations, 43 CFR 10.8, 10.10, and 10.14.

Dated: May 24, 2023.
Melanie O'Brien,
Manager, National NAGPRA Program.

[FR Doc. 2023-11691 Filed 5-31-23; 8:45 am]

BILLING CODE 4312-52-P